DEPARTMENT OF COMMERCE

National Oceanic and Atmospheric Administration

RIN 0648-XV42

National Marine Fisheries Service, Pacific Fishery Management Council (Pacific Council); April 9-15, 2010 Pacific Council Meeting

AGENCY: National Marine Fisheries Service (NMFS), National Oceanic and Atmospheric Administration (NOAA), Commerce.

ACTION: Notice of public meetings.

SUMMARY: The Pacific Council and its advisory entities will hold public meetings.

DATES: The Council and its advisory entities will meet April 9-15, 2010. The Pacific Council meeting will begin on Saturday, April 10, 2010 at 8:00 a.m., reconvening each day through Thursday, April 15, 2010. All meetings are open to the public, except a closed session will be held from 10:00 a.m. until 11:00 a.m. on Saturday, April 10 to address litigation and personnel matters. The Pacific Council will meet as late as necessary each day to complete its scheduled business.

ADDRESSES: Meetings of the Pacific Council and its advisory entities will be held at the Sheraton Portland Airport Hotel, 8235 NE Airport Way, Portland, Oregon 97220; telephone: 503-281-2500. The Pacific Council address is Pacific Fishery Management Council, 7700 NE Ambassador Place, Suite 101, Portland, OR 97220.

FOR FURTHER INFORMATION CONTACT: Dr. Donald O. McIsaac, Executive Director; telephone: 503-820-2280 or 866-806-7204 toll free; or access the Pacific Council website, http://www.pcouncil.org for the current meeting location, proposed agenda, and meeting briefing materials.

SUPPLEMENTARY INFORMATION: The following items are on the Pacific Council agenda, but not necessarily in this order:

A. Call to Order

1. Opening Remarks and Introductions

2. Roll Call

3. Executive Director's Report

4. Approve Agenda

B. Open Comment Period

1. Comments on Non-Agenda Items

C. Enforcement Issues

1. U.S. Coast Guard Annual West Coast Fishery Enforcement Report

D. Marine Protected Areas

1. Update on Olympic Coast National Marine Sanctuary Management Plan Review

E. Habitat

1. Current Habitat Issues

F. Coastal Pelagic Species Management

1. Exempted Fishing Permit for Sardine Aerial Survey Research

G. Highly Migratory Species Management

1. National Marine Fisheries Service Report

2. Fishery Management Plan Amendment 2 - Annual Catch Limits and Accountability Measures

3. Consideration of Effort Limitation in the Albacore Tuna Fishery

4. Critical Habitat Designation for Leatherback Turtles

H. Salmon Management

1. Tentative Adoption of 2010 Ocean Salmon Management Measures for Analysis

2. Clarify Council Direction for 2010 Management Measures

3. National Marine Fisheries Service Report

4. Methodology Review Process and Preliminary Topic Selection for 2010

5. Final Action on 2010 Ocean Salmon Management Measures

I. Groundfish Management

1. Regulatory Deeming for Fishery Management Plan Amendment 20—Trawl Rationalization

2. Harvest Specifications for 2011-2012 Groundfish Fisheries

3. National Marine Fisheries Service Report

4. Part I of Management Measures for 2011-2012 Groundfish Fisheries

5. Consideration of Inseason Adjustments

6. Part II of Management Measures for 2011-2012 Groundfish Fisheries

J. Pacific Halibut Management

1. Incidental 2010 Catch Regulations in the Salmon Troll Fishery

K. Administrative Matters

1. Legislative Matters

2. Membership Appointments and Council Operating Procedures

3. Future Council Meeting Agenda and Workload Planning

SCHEDULE OF ANCILLARY MEETINGS

Friday, April 9, 2010

Ad Hoc Regulatory Deeming Committee 8 am

Groundfish Management Team 8 am

Highly Migratory Species Advisory Subpanel 8 am

Highly Migratory Species Management Team 8 am

Habitat Committee 8:30 am

Legislative Committee 1:00 pm

Scientific and Statistical Committee Highly Migratory

Species Subcommittee 1:00 pm

Saturday, April 10, 2010

California State Delegation 7:00 am

Oregon State Delegation 7:00 am

Washington State Delegation 7:00 am

Ad Hoc Regulatory Deeming Committee 8 am

Enforcement Committee 8 am

Groundfish Advisory Subpanel 8 am

Groundfish Management Team 8 am

Highly Migratory Species Advisory Subpanel 8 am

Highly Migratory Species Management Team 8 am

Scientific and Statistical Committee 8 am

Sunday, April 11, 2010

California State Delegation 7:00 am

Oregon State Delegation 7:00 am

Washington State Delegation 7:00 am

Ad Hoc Regulatory Deeming Committee 8 am

Enforcement Consultants 8 am

Groundfish Advisory Subpanel 8 am

Groundfish Management Team 8 am

Salmon Advisory Subpanel 8 am

Salmon Technical Team 8 am

Scientific and Statistical Committee 8 am

Tribal Policy GroupAs Needed

Tribal and Washington Technical Group As Needed

Chair's Reception 6:00 pm

Monday, April 12, 2010

California State Delegation 7:00 am

Oregon State Delegation 7:00 am

Washington State Delegation 7:00 am

Ad Hoc Regulatory Deeming Committee 8 am

Enforcement Consultants 8 am

Groundfish Advisory Subpanel 8 am

Groundfish Management Team 8 am

Salmon Advisory Subpanel 8 am

Salmon Technical Team 8 am

Tribal Policy Group As Needed

Tribal and Washington Technical Group As Needed

Tuesday, April 13, 2010

California State Delegation 7:00 am

Oregon State Delegation 7:00 am

Washington State Delegation 7:00 am

Enforcement Consultants 8 am

Groundfish Advisory Subpanel 8 am

Groundfish Management Team 8 am

Salmon Advisory Subpanel 8 am

Salmon Technical Team 8 am

Ad Hoc Regulatory Deeming Committee As Needed

Tribal Policy Group As Needed

Tribal and Washington Technical Group As Needed

Wednesday, April 14, 2010

California State Delegation 7:00 am

Oregon State Delegation 7:00 am

Washington State Delegation 7:00 am

Groundfish Advisory Subpanel 8 am

Groundfish Management Team 8 am

Salmon Advisory Subpanel 8 am

Salmon Technical Team 8 am

Ad Hoc Regulatory Deeming Committee As Needed

Enforcement Consultants As Needed

Tribal Policy Group As Needed

Tribal and Washington Technical Group As Needed

Thursday, April 15, 2010

California State Delegation 7:00 am

Oregon State Delegation 7:00 am

Washington State Delegation 7:00 am

Groundfish Management Team 8 am

Salmon Advisory Subpanel 8 am

Salmon Technical Team 8 am

Ad Hoc Regulatory Deeming Committee As Needed

Enforcement Consultants As Needed

Tribal Policy Group As Needed

Tribal and Washington Technical Group As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at 503-820-2280 at least five days prior to the meeting date.

Dated: March 18, 2010.
Tracey L. Thompson,
Acting Director, Office of Sustainable Fisheries, National Marine Fisheries Service.

[FR Doc. 2010-6327 Filed 3-22-10; 8:45 am]

BILLING CODE 3510-22-S